DEPARTMENT OF TRANSPORTATION

Federal Aviation Administration

14 CFR Part 39

[Docket No. FAA-2005-20873; Directorate Identifier 2005-NM-026-AD; Amendment 39-14213; AD 2005-16-08]

RIN 2120-AA64

Airworthiness Directives; McDonnell Douglas Model 717-200 Airplanes

AGENCY: Federal Aviation Administration (FAA), Department of Transportation (DOT).

ACTION: Final rule.

SUMMARY: The FAA is adopting a new airworthiness directive (AD) for certain McDonnell Douglas Model 717-200 airplanes. This AD requires repetitively replacing and testing a certain relay in the passenger oxygen release system in the forward cabin. This AD results from reports of a failed relay in the passenger oxygen release system. We are issuing this AD to prevent failure of the relay, which could result in the oxygen masks failing to deploy and deliver oxygen to the passengers in the event of a rapid decompression or cabin depressurization.

DATES: Effective September 13, 2005.

The Director of the Federal Register approved the incorporation by reference of a certain publication listed in the AD as of September 13, 2005.

ADDRESSES: You may examine the AD docket on the Internet at http://dms.dot.gov or in person at the Docket Management Facility, U.S. Department of Transportation, 400 Seventh Street SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Albert Lam, Aerospace Engineer, Cabin Safety and Environmental Systems Branch, ANM-150L, FAA, Los Angeles Aircraft Certification Office, 3960 Paramount Boulevard, Lakewood, California 90712-4137; telephone (562) 627-5346; fax (562) 627-5210.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain McDonnell Douglas Model 717-200 airplanes. That NPRM was published in the Federal Register on April 6, 2005 (70 FR 17353). That NPRM proposed to require repetitively replacing and testing a certain relay in the passenger oxygen release system in the forward cabin.

Comments

We provided the public the opportunity to participate in the development of this AD. We have considered the comments that have been received on the proposed AD from a single commenter, the airplane manufacturer.

Request To Add Revised Service Information

The commenter states that Revision 1 of Boeing Alert Service Bulletin 717-35A0003 is scheduled to be released in early July. The original issue of the service bulletin was referenced in the proposed AD as the appropriate source of service information for accomplishing the specified actions. The commenter notes that Revision 1 provides additional work instructions.

We infer that the commenter is asking that Revision 1 of the referenced service bulletin be added to the AD for accomplishing the required actions. We agree, and we have reviewed Boeing Alert Service Bulletin 717-35A0003, Revision 1, dated June 7, 2005. The procedures in Revision 1 are essentially the same as those in the original issue of the service bulletin, and merely clarify the work instructions to specify removing electrical power before relay replacement and to change the voltage requirement of the relay test procedures to allow for residual voltage. Accordingly, we have revised the service bulletin citation specified in the applicability in paragraph (c) of this AD, and for accomplishing the actions in paragraph (f) of this AD, to refer to Revision 1 of the service bulletin as the appropriate source of service information. We have also added a new paragraph (g) (and re-identified subsequent paragraphs accordingly) to state that actions accomplished before the effective date of this AD according to the original issue of the service bulletin are acceptable for compliance with this AD.

Request To Clarify Certain Terminology

The commenter asks for clarification of certain terminology in the Summary, Discussion, and Relevant Service Information sections of the proposed AD, as well as the statement of the unsafe condition. The commenter asks that the terminology “a certain relay of the passenger oxygen” be changed to “a certain relay in the passenger oxygen” to clarify component location.

We acknowledge and agree with the commenter's remarks on the preamble of the proposed AD; however, the Discussion and Relevant Service Information sections referred to are not restated in the final rule. We have changed the terminology identified by the commenter in the SUMMARY section and throughout the other relevant sections specified in this AD.

The commenter also asks for the word “reply” to be changed to “relay” in paragraph (a) of the proposed AD, but we found no typographical error in the NPRM that specifies the word “reply.”

The commenter also asks that certain terminology specified in the Costs of Compliance section be changed. The commenter asks that the word “initial” be added at the beginning of the sentence “Required parts would be free of charge” and before the word replacement. The commenter also asks that the term “per cycle” be deleted. The commenter states that the operator is responsible for additional replacement relays, should the operator not implement closing action in accordance with paragraph 2.B., “Industry Support Information” of the referenced service bulletin. For clarification, the requirements in this AD do not provide for such closing action.

We partially agree with the commenter. Because the specified actions are repetitive and could require more than one replacement part, we agree that only the initial parts replacement would be free of charge. The parts cost for any additional replacement of the relay is $130. We have changed the Costs of Compliance section in this AD accordingly. We do not agree to remove the term “per cycle” because the actions specified in this AD are repetitive and the cost estimated is for each cycle.

Conclusion

We have carefully reviewed the available data, including the comments that have been received, and determined that air safety and the public interest require adopting the AD with the changes described previously. We have determined that these changes will neither increase the economic burden on any operator nor increase the scope of the AD.

Interim Action

We consider this AD interim action. The manufacturer is currently developing a modification that will address the unsafe condition identified in this AD. Once this modification is developed, approved, and available, we may consider additional rulemaking.

Costs of Compliance

There are about 122 airplanes of the affected design in the worldwide fleet. This AD affects about 92 airplanes of U.S. registry. The replacement and test take about 2 work hours per airplane, at an average labor rate of $65 per work hour. Required parts for the initial replacement are free of charge. Required parts cost for additional replacements is $130 per relay. Based on these figures, the estimated cost of the initial replacement and test for U.S. operators is $130 per airplane. The estimated cost of any additional replacement and test is $260 per airplane, per cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-16-08 McDonnell Douglas: Amendment 39-14213. Docket No. FAA-2005-20873; Directorate Identifier 2005-NM-026-AD.

Effective Date

(a) This AD becomes effective September 13, 2005.

Affected ADs

(b) None.

Applicability

(c) This AD applies to McDonnell Douglas Model 717-200 airplanes, certificated in any category, as identified in Boeing Alert Service Bulletin 717-35A0003, Revision 1, dated June 7, 2005.

Unsafe Condition

(d) This AD was prompted by reports of a failed relay in the passenger oxygen release system. We are issuing this AD to prevent failure of the relay, which could result in the oxygen masks failing to deploy and deliver oxygen to the passengers in the event of a rapid decompression or cabin depressurization.

Compliance

(e) You are responsible for having the actions required by this AD performed within the compliance times specified, unless the actions have already been done.

Repetitive Replacement and Test

(f) Replace the relay in the passenger oxygen release system in the forward cabin with a new relay and test for proper operation by doing all the actions as specified in the Accomplishment Instructions of Boeing Alert Service Bulletin 717-35A0003, Revision 1, dated June 7, 2005; at the applicable time specified in paragraph (f)(1) or (f)(2) of this AD. Repeat the actions at intervals not to exceed 3,100 flight cycles.

(1) For Group 1 airplanes, as identified in the service bulletin: Within 6 months after the effective date of this AD.

(2) For Group 2 airplanes, as identified in the service bulletin: Before the accumulation of 3,100 total flight cycles, or within 6 months after the effective date of this AD, whichever is later.

Credit for Previously Accomplished Actions

(g) Replacements and tests accomplished before the effective date of this AD in accordance with Boeing Alert Service Bulletin 717-35A0003, dated November 19, 2004, are acceptable for compliance with paragraph (f) of this AD.

Alternative Methods of Compliance (AMOCs)

(h) The Manager, Los Angeles Aircraft Certification Office, FAA, has the authority to approve AMOCs for this AD, if requested in accordance with the procedures found in 14 CFR 39.19.

Material Incorporated by Reference

(i) You must use Boeing Alert Service Bulletin 717-35A0003, Revision 1, dated June 7, 2005, to perform the actions that are required by this AD, unless the AD specifies otherwise. The Director of the Federal Register approved the incorporation by reference of this document in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 29, 2005.
Kevin M. Mullin,
Acting Manager, Transport Airplane Directorate, Aircraft Certification Service.

[FR Doc. 05-15588 Filed 8-8-05; 8:45 am]

BILLING CODE 4910-13-P